FEDERAL COMMUNICATIONS COMMISSION

Sunshine Act Meeting; Open Commission Meeting

January 10, 2002.

The Federal Communications Commission will hold in Open Meeting on Thursday, January 17, 2002, at 9:30 a.m. in Room TW-C305; at 445 12th Street, SW., Washington, DC. The meeting will focus on a comprehensive review of FCC policies and procedures by the Commissioners and senior agency officials.

Presentations will be made in three panels:

Panel One consisting of the Chiefs of the Mass Media Bureau, the Cable Service Bureau and the Common Carrier Bureau.

Panel Two consisting of the Chiefs of the Consumer Information Bureau and the Enforcement Bureau.

Panel Three consisting of the Chiefs of the Office of Engineering and Technology, the International Bureau, and the Wireless Telecommunications Bureau.

Additional information concerning this meeting may be obtained from Maureen Peratino or David Fiske, Office of Media Relations, telephone number (202) 418-0500; TTY 1-888-835-5322.

Copies of materials presented at this meeting can be purchased from the FCC's duplicating contractor, Qualex International at (202) 863-2893; fax (202) 863-2898; TTY (202) 863-2897. These copies are available in paper format and alternative media, including large print/type, digital disk, and audio tape. Qualex International may be reached by e-mail at qualexint@aol.com

This meeting can be viewed over George Mason University's Capitol Connection. The Capitol Connection also will carry the meeting live via the Internet. For information on these services call (703) 993-3100. The audio. portion of the meeting will be broadcast live on the Internet via the FCC's Internet audio broadcast page at http://www.fcc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-1470, Ext. 10; fax number (703) 834-0111.

Federal Communication Commission.
Magalie Roman Salas,
Secretary.

[FR Doc. 02-1091 Filed 1-11-02; 8:45 am]

BILLING CODE 6712-01-M